DEPARTMENT OF DEFENSE

GENERAL SERVICES ADMINISTRATION

NATIONAL AERONAUTICS AND SPACE ADMINISTRATION

48 CFR Parts 15 and 52

[FAC 2005-83; Item VII; Docket No. 2015-0052; Sequence No. 2]

Federal Acquisition Regulation; Technical Amendments

AGENCIES: Department of Defense (DoD), General Services Administration (GSA), and National Aeronautics and Space Administration (NASA).

ACTION: Final rule.

SUMMARY: This document makes amendments to the Federal Acquisition Regulation (FAR) in order to make editorial changes.

DATES: Effective: July 2, 2015.

FOR FURTHER INFORMATION CONTACT: The Regulatory Secretariat Division (MVCB), 1800 F Street NW., 2nd Floor, Washington, DC 20405, 202-501-4755, for information pertaining to status or publication schedules. Please cite FAC 2005-83, Technical Amendments.

SUPPLEMENTARY INFORMATION:

In order to update certain elements in 48 CFR parts 15 and 52 this document makes editorial changes to the FAR.

List of Subject in 48 CFR Parts 15 and 52

Government procurement.

Dated: June 18, 2015.
William Clark,
Director, Office of Government-wide Acquisition Policy, Office of Acquisition Policy, Office of Government-wide Policy.

Therefore, DoD, GSA, and NASA amend 48 CFR parts 15 and 52 as set forth below:

1. The authority citation for 48 CFR parts 15 and 52 continues to read as follow:

Authority: 40 U.S.C. 121(c); 10 U.S.C. chapter 137; and 51 U.S.C. 20113.

PART 15-CONTRACTING BY NEGOTIATION

15.404-2 [Amended]

2. Amend section 15.404-2 by removing from paragraph (b)(2) “(see 4.807(f))” and adding “(see 4.803(a)(19))” in its place.

PART 52—SOLICITATION PROVISIONS AND CONTRACT CLAUSES

3. Amend section 52.204-16 by—

a. Revising the date of the provision; and

b. Removing from paragraph (c)(3) “http://www.dlis.dla.mil/Forms/Form_AC135.asp” and adding “http://www.dlis.dla.mil/nato/ObtainCAGE.asp” in its place.

The revision reads as follows:

52.204-16 Commercial and Government Entity Code Reporting.

* * * * *

Commercial and Government Entity Code Reporting (JUL 2015)

* * * * *

4. Amend section 52.204-18 by—

a. Revising the date of the clause; and

b. Removing from paragraph (d) “http://www.dlis.dla.mil/Forms/Form_AC135.asp” and adding “http://www.dlis.dla.mil/nato/ObtainCAGE.asp” in its place.

The revision reads as follows:

52.204-18 Commercial and Government Entity Code Maintenance.

* * * * *

Commercial and Government Entity Code Maintenance (JUL 2015)

* * * * *

5. Amend section 52.212-5, Alternate II, by revising the date of the Alternate and paragraph (e)(1)(ii)(E) to reads as follows:

52.212-5 Contract Terms and Conditions Required to Implement Statutes or Executive Orders—Commercial Items.

* * * * *

Alternate II (JUL 2015). * * *

* * * * *

(e)(1) * * *

(ii) * * *

(E) 52.222-26, Equal Opportunity (Apr 2015) (E.O. 11246).

* * * * *

[FR Doc. 2015-16217 Filed 7-1-15; 8:45 am]

BILLING CODE 6820-EP-P